DEPARTMENT OF STATE

[Public Notice 7222]

Designation of Jundallah, Also Known as People's Resistance Movement of Iran (PMRI), Also Known as Jonbesh-i Moqavemat-i-Mardom-i Iran, Also Known as The Popular Resistance Movement of Iran, Also Known as Soldiers of God, Also Known as Fedayeen-e-Islam, Also Known as Former Jundallah of Iran, Also Known as Jundullah, Also Known as Jondullah, Also Known as Jundollah, Also Known as Jondollah, Also Known as Jondallah, Also Known as Army of God (God's Army), Also Known as the Baloch Peoples Resistance Movement (BPRM), as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Jundallah, also known as People's Resistance Movement of Iran (PMRI), also known as Jonbesh-i Moqavemat-i-Mardom-i Iran, also known as The Popular Resistance Movement of Iran, also known as Soldiers of God, also known as Fedayeen-e-Islam, also known as Former Jundallah of Iran, also known as Jundullah, also known as Jondullah, also known as Jundollah, also known as Jondollah, also known as Jondallah, also known as Army of God (God's Army) and also known as the Baloch Peoples Resistance Movement (BPRM).

Therefore, I hereby designate the aforementioned organization and its aliases as a Foreign Terrorist Organization pursuant to section 219 of the INA.

This determination shall be published in the Federal Register.

Dated: October 21, 2010.
Hillary Rodham Clinton,
Secretary of State.

[FR Doc. 2010-27785 Filed 11-3-10; 8:45 am]

BILLING CODE 4710-10-P